DEPARTMENT OF THE TREASURY

Submission for OMB Review; Comment Request

July 19, 2011.

The Department of the Treasury will submit the following public information collection requirement to OMB for review and clearance under the Paperwork Reduction Act of 1995, Public Law 104-13 on or after the date of publication of this notice. A copy of the submission may be obtained by calling the Treasury Bureau Clearance Officer listed. Comments regarding this information collection should be addressed to the OMB reviewer listed and to the Treasury PRA Clearance Officer, Department of the Treasury, 1750 Pennsylvania Avenue, NW., Suite 11010, Washington, DC 20220.

Dates: Written comments should be received on or before August 24, 2011 to be assured of consideration.

Internal Revenue Service (IRS)

OMB Number: 1545-2204.

Type of Review: Extension without change of a currently approved collection.

Title: CS-10-251—Prepaid Card Marketing Customer Survey.

Abstract: The purpose of the social marketing prepaid card initiative is to evaluate taxpayer knowledge, beliefs, barriers and perception of the prepaid card—providing first-hand information that has not been collected to date. In Fiscal Year (FY) 2009, the IRS initiated a formal effort to collaborate with financial institutions (banks) and Volunteer Income Tax Assistance (VITA) sites to encourage taxpayers who do not request direct-deposited refunds to opt for a prepaid card sponsored by the financial institutions. These taxpayers are likely to be unbanked and without means of freely cashing their refund check. The perceived benefits of the prepaid card program are (1) Faster transfer of refunds to the taxpayer compared to the paper check mode, and (2) low-cost transactions to use the refund amount. To help improve participation, IRS is hoping to leverage the theory and principles of social marketing. Social marketing principles and practices apply marketing principles to social programs. This data will provide the IRS with practical information to be used to determine the value of offering the prepaid card to taxpayers in the future.

Respondents: Individuals or Households.

Estimated Total Burden Hours: 542.

Bureau Clearance Officer: Yvette Lawrence, Internal Revenue Service, 1111 Constitution Avenue, NW., Washington, DC 20224; (202) 927-4374.

OMB Reviewer: Shagufta Ahmed, Office of Management and Budget, New Executive Office Building, Room 10235, Washington, DC 20503; (202) 395-7873.

Dawn D. Wolfgang,
Treasury PRA Clearance Officer.

[FR Doc. 2011-18658 Filed 7-22-11; 8:45 am]

BILLING CODE 4830-01-P